SECURITIES AND EXCHANGE COMMISSION

[SEC File No. 270-620, OMB Control No. 3235-0675]

Submission for OMB Review; Comment Request; Extension: Rule 15Ga-2 and Form ABS-15G

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Rule 15Ga-2 and Form ABS-15G (17 CFR 249.1400) is used for reports of information required under Rule 15Ga-1 and Rule 15Ga-2 (17 CFR 240.15Ga-1) (17 CFR 240.15Ga-2) of the Exchange Act of 1934 (“Exchange Act”). Exchange Act Rule 15Ga-1 requires asset-backed securitizers to provide disclosure regarding fulfilled an unfulfilled repurchase requests with respect to asset-backed securities. The purpose of the information collected on Form ABS-15G is to implement the disclosure requirements of Section 943 of the Dodd-Frank Wall Street Reform and Consumer Protection Act to provide information regarding the use of representations and warranties in the asset-backed securities markets.

Form ABS-15G is a collection of information required by Rules 15Ga-1 and 15Ga-2 under the Exchange Act. For just Rule 15Ga-1, Form ABS-15G takes approximately 27.2234 hours per response and is filed by approximately 1,142 respondents. We estimate that 75% of the 27.2234 hours per response (20.4176 hours) is prepared by the filer for a total annual reporting burden of 23,317 hours (20.4176 hours per response × 1,142 responses).

For just Rule 15Ga-2, Form ABS-15G takes approximately 2.1279 hours per response and is filed by approximately 864 respondents. We estimate that 100% of the 2.1279 hours per response (2.1279 hours) is prepared by the filer for a total annual reporting burden of 1,839 hours (2.1279 hours per response × 864 responses).

Rule 15Ga-1 and Rule 15Ga-2 combined filing on Form ABS-15G we estimate that approximately 2006 securitizers will file Form ABS-15G annually at estimated (16.7205 hours) burden hours per response. In addition, we estimate that 75% of the 16.7205 hours per response (12.5403 hours) is carried internally by the securitizers for a total annual reporting burden of 25,156 hours (12.5403 hours per response × 2006 responses).

An agency may not conduct or sponsor, and a person is not required to respond to, a collection of information unless it displays a currently valid control number.

Public Comment Instructions: The 30-day public comment period for this information collection request opens on December 12, 2024 and closes at the end of the day on January 13, 2025. The public may view the full information request and submit comments at https://www.reginfo.gov/public/do/PRAViewICR?ref_nbr=202411-3235-012 or email comments to MBX.OMB.OIRA.SEC_desk_officer@omb.eop.gov.

Dated: December 6, 2024.
Sherry R. Haywood,
Assistant Secretary.

[FR Doc. 2024-29120 Filed 12-10-24; 8:45 am]

BILLING CODE 8011-01-P